DEPARTMENT OF ENERGY

Notice of Orders Issued Under Section 3 of the Natural Gas Act During January 2020

| FE Docket Nos.
BG LNG SERVICES, LLC | 19-148-LNG
NEW WORLD GLOBAL, LLC | 19-131-LNG
PUGET SOUND ENERGY, INC | 19-151-NG
HOUSTON PIPE LINE COMPANY LP | 19-152-NG
TIDAL ENERGY MARKETING INC | 19-155-NG
PLUM GAS SOLUTIONS INC | 19-154-NG
SEAONE CORPUS CHRISTI, LLC | 19-147-CGL
SABINE PASS LIQUEFACTION, LLC | 19-133-LNG
THE BERKSHIRE GAS COMPANY | 20-02-NG
COAHUILA ENERGY | 19-157-NG
GOLDEN PASS LNG TERMINAL LLC | 20-03-LNG
MERCURIA ENERGY AMERICA, LLC | 20-01-NG; 18-54-NG
FREEPORT LNG DEVELOPMENT, L.P | 19-153-LNG
UPSTREAM PETROLEUM INC | 19-158-NG
COPEQ TRADING CO | 20-04-NG

AGENCY: Office of Fossil Energy, Department of Energy.

ACTION: Notice of orders.

SUMMARY: The Office of Fossil Energy (FE) of the Department of Energy gives notice that during January 2020, it issued orders granting authority to import and export natural gas, to import and export liquefied natural gas (LNG), and to vacate prior authorization. These orders are summarized in the attached appendix and may be found on the FE website at https://www.energy.gov/fe/listing-doefe-authorizationsorders-issued-2020.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9387. The Docket Room is open between the hours of 8:00 a.m. and 4:30 p.m., Monday through Friday, except Federal holidays.

Signed in Washington, DC, on March 3, 2020.
Amy Sweeney,
Director, Office of Regulation, Analysis, and Engagement, Office of Oil and Natural Gas.

Appendix

DOE/FE Orders Granting Import/Export Authorizations
4477 | 01/14/20 | 19-148-LNG | BG LNG Services, LLC | Order 4477 granting blanket authority to import LNG from various international sources by vessel.
4481 | 01/14/20 | 19-131-LNG | New World Global, LLC | Order 4481 granting blanket authority to import/export LNG from Canada and to Mexico by truck.
4482 | 01/14/20 | 19-151-NG | Puget Sound Energy, Inc | Order 4482 granting blanket authority to import/export natural gas from/to Canada.
4483 | 01/14/20 | 19-152-NG | Houston Pipe Line Company LP | Order 4483 granting blanket authority to import/export natural gas from/to Mexico.
4484 | 01/14/20 | 19-155-NG | Tidal Energy Marketing Inc | Order 4484 granting blanket authority to import/export natural gas from/to Canada.
4485 | 01/14/20 | 19-154-NG | Plum Gas Solutions Inc | Order 4485 granting blanket authority to import/export natural gas from/to Canada.
4486 | 01/13/20 | 19-147-CGL | SeaOne Corpus Christi, LLC | Order Granting Long-Term Authorization to Export Natural Gas Contained in or Mixed With Compressed Gas Liquid to Free Trade Agreement Nations in the Caribbean Basin and Gulf of Mexico.
4487 | 01/15/20 | 19-133-LNG | Sabine Pass Liquefaction, LLC | Order 4487 granting blanket authority to export LNG to Free Trade Agreement Nations and Non-free Trade Agreement Nations.
4488 | 01/16/20 | 20-02-NG | The Berkshire Gas Company | Order 4488 granting blanket authority to import/export natural gas from/to Canada.
4493 | 01/30/20 | 19-157-NG | Coahuila Energy | Order 4493 granting blanket authority to export natural gas to Mexico.
4494 | 01/30/20 | 20-03-LNG | Golden Pass LNG Terminal LLC | Order 4494 granting blanket authority to import LNG from various international sources by vessel.
4495; 4188-A | 01/30/20 | 20-01-NG; 18-54-NG | Mercuria Energy America, LLC | Order 4495 granting blanket authority to import/export natural gas from/to Canada/Mexico, and vacating prior authorization (Order 4188-A).
4496 | 01/30/20 | 19-153-LNG | Freeport LNG Development, L.P | Order 4496 granting blanket authority to import LNG from various international sources by vessel.
4497 | 01/30/20 | 19-158-NG | Upstream Petroleum Inc | Order 4497 granting blanket authority to import/export natural gas from/to Canada/Mexico.
4498 | 01/30/20 | 20-04-NG | Copeq Trading Co | Order 4498 granting blanket authority to export natural gas to Mexico

[FR Doc. 2020-04615 Filed 3-5-20; 8:45 am]

BILLING CODE 6450-01-P